NATIONAL AERONAUTICS AND SPACE ADMINISTRATION

[Notice 04-153]

Government-Owned Inventions, Available for Licensing

AGENCY: National Aeronautics and Space Administration.

ACTION: Notice of availability of inventions for licensing.

SUMMARY: The inventions listed below are assigned to the National Aeronautics and Space Administration, has been filed in the United States Patent and Trademark office, and are available for licensing.

DATES: December 29, 2004.

FOR FURTHER INFORMATION CONTACT: Edward K. Fein, Patent Counsel, Johnson Space Center, Mail Code HA, Houston, TX 77058-8452; telephone (281) 483-4871; fax (281) 244-8452.

NASA Case No. MSC-23594-1: Exercise Apparatus;

NASA Case No. MSC-23668-1: Water Outlet Control Mechanism For Fuel Cell System Operation In Variable Gravity Environments;

NASA Case No. MSC-22859-4: Production Of Functional Proteins: Balance Of Shear Stress And Gravity;

NASA Case No. MSC-23454-1: 3-D Interactive Digital Virtual Human.

Dated: December 29, 2004.
Keith T. Sefton,
Deputy General Counsel, Administration and Management.

[FR Doc. 04-28514 Filed 12-28-04; 8:45 am]

BILLING CODE 7510-13-P